DEPARTMENT OF DEFENSE

Department of the Navy

[Docket ID: USN-2026-HQ-0068]

Proposed Collection; Comment Request

AGENCY: Department of the Navy, Department of Defense (DoD).

ACTION: 60-Day information collection notice.

SUMMARY: In compliance with the Paperwork Reduction Act of 1995, Navy Personnel Command announces the proposed reinstatement of a previously approved public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 13, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OPNAV Forms/Information Collections Office (DNS-14), 2000 Navy Pentagon, Room 4E563, Washington, DC 20350-2000, ATTN: Ms. Ashley Alford, or call 703-614-7585.

SUPPLEMENTARY INFORMATION:

Title; Associated Form; and OMB Number: Navy Casualty Assistance Forms; OPNAV Form 1770/1, OPNAV Form 1770/2, OPNAV Form 1770/3; OMB Control Number 0703-0076.

Needs and Uses: The Department of the Navy must collect information to administer casualty assistance and survivor benefits for the Next of Kin of Sailors who are deceased, missing, or have suffered a serious illness or injury. This collection is necessary to comply with federal laws, such as 10 United States Code (U.S.C.) section 1475 (Death Gratuity) and 37 U.S.C. 452 (Travel Allowances), which direct the payment of benefits and other entitlements to eligible family members.

The information is collected by a Casualty Assistance Calls Officer using OPNAV Forms 1770/1, 1770/2, and 1770/3. It is used to process claims for the Death Gratuity, Service Members' Group Life Insurance, and the Survivor Benefit Plan. The data is also used to arrange travel for eligible family members to attend burial ceremonies or the bedside of an ill or injured Sailor, and, with consent, to provide contact information to members of Congress for condolence purposes.

The respondents are the Next of Kin and designated beneficiaries of the affected Sailor. Without this information collection, the Navy would be unable to execute its legal mandate to pay critical benefits, arrange authorized travel, and provide other essential support to the families of Sailors during a time of need.

Affected Public: Individuals or households.

Annual Burden Hours: 1,300.

Number of Respondents: 800.

Responses per Respondent: 2.5.

Annual Responses: 2,000.

Average Burden per Response: 39 minutes.

Frequency: On occasion.

Dated: February 9, 2026.
Stephanie J. Bost,
Alternate OSD Federal Register Liaison Officer, Department of Defense.

[FR Doc. 2026-02730 Filed 2-10-26; 8:45 am]

BILLING CODE 6001-FR-P